DEPARTMENT OF TRANSPORTATION

Federal Railroad Administration

Environmental Impact Statement for the California High-Speed Rail System Burbank to Los Angeles Section, CA

AGENCY: Federal Railroad Administration (FRA), U.S. Department of Transportation (DOT).

ACTION: Notice of Intent to prepare an Environmental Impact Statement (EIS).

SUMMARY: FRA is issuing this notice to advise other Federal, state, and local agencies and the public that FRA and the California High-Speed Rail Authority (Authority) are amending the existing 2007 Notice of Intent for the Palmdale to Los Angeles Section and will jointly prepare an Environmental Impact Report (EIR) and Environmental Impact Statement (EIS) for the Burbank to Los Angeles Section of the California High-Speed Rail (HSR) System in compliance with the California Environmental Quality Act (CEQA) and the National Environmental Policy Act of 1969 (NEPA). FRA is publishing this notice to solicit additional public and agency input into the development of the scope of the EIS and to advise the public that outreach activities conducted by the FRA and the Authority and their representatives will be considered in the preparation of the EIR/EIS. Federal cooperating agencies for the EIS are the Surface Transportation Board (STB), the U.S. Army Corps of Engineers (USACE), and the Bureau of Land Management (BLM).

In March 2007, FRA and the Authority respectively issued a Notice of Preparation and a Notice of Intent for the preparation of an EIR/EIS for the Palmdale to Los Angeles Section of the Authority's proposed California HSR System. Because the Palmdale to Los Angeles Section of the HSR System will be implemented in two parts consistent with Authority's Business Plan that prioritizes an Initial Operating Section (IOS) with a southern temporary terminus in the San Fernando Valley, the FRA and Authority have determined that there are two sections of the HSR System between Palmdale and Los Angeles and they will be better evaluated in two separate EIR/EISs: Palmdale to Burbank and Burbank to Los Angeles. Each of these sections has logical termini and independent utility, as discussed further below. This notice provides information regarding the Project EIR/EIS for the Burbank to Los Angeles Section of the California HSR System (proposed action). The Palmdale to Burbank Section of the California HSR System is the subject of a separate Notice of Intent, which is being published concurrently with this notice. The preparation of the Burbank to Los Angeles Section EIR/EIS will involve a robust public outreach process; the development of preliminary engineering designs; and the assessment of potential environmental effects associated with the construction, operation, and maintenance of the HSR System.

DATES: Written comments on the scope of the Burbank to Los Angeles EIR/EIS should be provided to the address below by August 25, 2014. Public scoping meetings are scheduled from August 5, 2014 to August 19, 2014 as noted below in the SUPPLEMENTARY INFORMATION section. Scoping materials and information concerning the scoping meetings is available through the Authority's Web site: http://hsr.ca.gov/Programs/Statewide_Rail_Modernization/project_sections/burbank_losangeles.html.

ADDRESSES: Written comments on the scope should be sent to Mark A. McLoughlin, Director of Environmental Services, Attention: Burbank to Los Angeles Section EIR/EIS, California High-Speed Rail Authority, 700 North Alameda Street, Room 3-532, Los Angeles, CA 90012, or via email with subject line “Burbank to Los Angeles Section EIR/EIS” to: burbank_los.angeles@hsr.ca.gov.

Comments may also be provided orally or in writing at scoping meetings. See the SUPPLEMENTARY INFORMATION section for meeting times and addresses.

FOR FURTHER INFORMATION CONTACT: Ms. Stephanie Perez, Environmental Protection Specialist, Office of Program Delivery, Federal Railroad Administration, 1200 New Jersey Avenue SE., (Mail Stop 20), Washington, DC 20590, telephone: (202) 493-0388, email: stephanie.perez@dot.gov; or Mr. Mark A. McLoughlin, Director of Environmental Services, California High-Speed Rail Authority, 700 North Alameda Street, Room 3-532, Los Angeles, CA 90012, telephone: (800) 630-1039, email: burbank_los.angeles@hsr.ca.gov.

SUPPLEMENTARY INFORMATION: FRA is an operating administration of the U.S. Department of Transportation and has responsibility for overseeing the safety of railroad operations, including the safety of any proposed high-speed ground transportation system. FRA is also authorized to provide, subject to appropriations, Federal funding for intercity passenger rail capital investments including high-speed rail. Federal cooperating agencies for the EIS are BLM, STB, and USACE. BLM has approval authority over the use of public lands under their control. STB has exclusive jurisdiction, pursuant to 49 U.S.C. 10501(b), over the construction, acquisition, operation, and abandonment of rail lines, railroad rates, and services and rail carrier consolidations and mergers. The construction and operation of the proposed California HSR System is subject to STB's approval authority under 49 U.S.C. 10901. USACE has jurisdiction under Section 404 of the Clean Water Act.

The Authority was established in 1996 and is authorized and directed by statute to undertake the planning and development of a proposed statewide HSR network that is fully coordinated with other public transportation services. In 2005, FRA and the Authority completed the California HSR Program EIR/EIS (Statewide Program EIR/EIS), as the first phase of a tiered environmental review process. The Authority certified the Statewide Program EIR under CEQA and approved the proposed HSR System, and FRA issued a Record of Decision under NEPA for the Statewide Program EIS. This Statewide Program EIR/EIS established the purpose and need for the HSR System, analyzed an HSR System, and compared the HSR System with a No Action Alternative and a Modal Alternative.

In approving the Statewide Program EIR/EIS, FRA and the Authority selected the HSR Alternative for intercity passenger travel in California between the major metropolitan centers of Sacramento and the San Francisco Bay Area in the north, through the Central Valley, to the cities of Los Angeles and San Diego in the south; selected general corridors/alignments and general station locations for further study; incorporated mitigation strategies and design practices; and specified further measures to guide the development of the HSR System during the site-specific, project-level environmental review to avoid and minimize potential adverse environmental impacts. The approved HSR System would be approximately 800 miles long, with electric propulsion and steel-wheel-on-steel-rail trains capable of operating speeds of 220 miles per hour (mph) on a dedicated system of fully grade-separated, access-controlled steel tracks with state-of-the-art safety, signaling, communication, and automated train control systems.

The HSR Alternative as described in the Statewide Program EIR/EIS provides a broad planning and conceptual outline of the proposed train system. The Burbank to Los Angeles Section EIR/EIS will allow for the consideration of alternatives for this section at a greater level of detail. The Burbank to Los Angeles Section EIR/EIS will tier from the Statewide Program EIR/EIS in accordance with Council on Environmental Quality (CEQ) regulations, (40 CFR 1508.28) and State CEQA Guidelines (14 California Code of Regulations 15168(b)). The Burbank to Los Angeles Section EIR/EIS will build upon all previous work prepared for, and incorporated in, the Statewide Program EIR/EIS, including the state planning process incorporated into the Authority's Business Plans. In addition, the selection of alternatives to be included in the Burbank to Los Angeles EIR/EIS will consider comments received from the agencies and the public during the alternatives analyses process. All comments received during the scoping period will receive equal consideration as comments received during the March to April 2007 scoping period for the Palmdale to Los Angeles Section EIR/EIS.

In approving the HSR System, FRA and the Authority also selected corridors/general alignments and station location options throughout most of the System, including a corridor between Palmdale and Los Angeles. The Statewide Program EIR/EIS generally selected the Soledad Canyon Corridor and the Metro/Metrolink right-of-way for the HSR route from Palmdale to Los Angeles with stations in the City of Palmdale, the San Fernando Valley, and the vicinity of Los Angeles Union Station.

In addition to the NEPA and CEQA process, as required by state law, the Authority adopted its first Business Plan in June 2000, which reviewed the economic feasibility of an 800-mile-long HSR System capable of operating speeds in excess of 200 mph on a dedicated, fully grade-separated state-of-the-art track. The Authority released updated Business Plans in November 2008, December 2009 (addendum in April 2010), April 2012, and April 2014. These Business Plans, which are subject to public review, are an important part of the statewide planning process for HSR.

Pursuant to state law, the Authority must prepare Business Plans bi-annually, which are subject to public review and comment and must include information describing the type of service to be developed and the proposed chronology for the construction of the Statewide HSR system.

On April 30, 2014, the Authority released its 2014 Business Plan, which builds on the Authority's 2012 Plan. Like the 2012 Revised Business Plan, the 2014 Business Plan describes the phased implementation of the California HSR System, including a 300-mile Initial Operating Section (IOS). This IOS is intended to provide a one-seat ride from Merced to the San Fernando Valley, closing a north-south intercity passenger rail gap. Initially, the IOS is proposed to begin with the construction of up to 130 miles of high-speed rail track and structures in the Central Valley. It would terminate in the San Fernando Valley and would connect with the San Francisco Bay Area and the Los Angeles Basin (referred to as the “bookends”) through a “blended” system. The blended operations would rely on connections with regional and local rail for an interim period prior to initiation of full HSR service.

In addition to the refinement of the types of service and the likely chronology in the Business Plans, several alternatives analyses have been conducted to refine the project alignments and station locations. The Preliminary Alternatives Analysis and all Supplemental Alternative Analyses (SAA) included public outreach activities, including community meetings, stakeholder meetings, and public official outreach. The Preliminary Alternatives Analysis and SAA documents include a description of public outreach activities conducted. These documents are available at http://www.hsr.ca.gov/Programs/Statewide_Rail_Modernization/Project_Sections/palmdale_losangeles.html.

The Preliminary Alternatives Analysis was published in July 2010 and addressed alignment alternatives and station options throughout the Palmdale to Los Angeles Section. Three Supplemental Alternatives Analyses (“SAA”) have subsequently been prepared. The first SAA (March 2011) addressed supplemental alignment alternatives and station options for the Los Angeles to Sylmar subsection. The second SAA (April 2012) addressed supplemental alignment alternatives for the Sylmar to Palmdale subsection and redefined the subsection into two new subsections: The Santa Clarita subsection, extending from Sylmar to two miles east of Lang Station Road, and the Palmdale subsection, extending from two miles east of Lang Station Road to Palmdale.

The third SAA (May 2014) reflects the 2012 and 2014 Business Plans by introducing phased implementation of the project with a 300-mile IOS. With the introduction of the IOS, this SAA also discusses the concept of evaluating Palmdale to Burbank and Burbank to Los Angeles as two sections. The May 2014 SAA refined the alignment alternatives and station options, including withdrawing one alignment alternative and three station options, and recommending the Palmdale Transportation Center Station and the Burbank Airport Station for further analysis.

As discussed further in the May 2014 SAA, it would be beneficial to address the environmental effects of the HSR System from Palmdale to Burbank in one EIR/EIS and from Burbank to Los Angeles in a separate EIR/EIS. This would provide for more effective planning and public outreach in these highly populated areas. These two sections are of sufficient length to address environmental matters. They have logical termini, which means that their end points are rational for transportation improvements and for the review of environmental impacts. Each section has independent utility, which means that the HSR System will function properly within each section, independent of additional improvements elsewhere.

The Burbank to Los Angeles Section EIR/EIS will describe site-specific environmental impacts, identify specific mitigation measures to address those impacts, and incorporate design features to avoid and minimize potential adverse environmental impacts. The site characteristics, size, nature, and timing of the proposed action will be described as a basis for determining whether the impacts are potentially significant and whether impacts can be avoided, minimized, or mitigated. The Burbank to Los Angeles Section EIR/EIS will identify and evaluate reasonable and feasible alignment alternatives along the corridor selected in the Program EIR/EIS, as well as addressing alternatives that may meet project objectives while potentially reducing environmental effects as identified during the alternatives analysis process and the scoping process. The Burbank to Los Angeles Section EIR/EIS will also identify and evaluate station options and evaluate the impacts of construction, operation, and maintenance of the proposed HSR System. Information and documents regarding this HSR environmental review process will be made available through the Authority's Internet site: www.hsr.ca.gov.

Purpose and Need

The purpose of the proposed HSR System is to provide a new mode of high-speed intercity travel that would link major metropolitan areas of the state; interface with airports, mass transit, and highways; and provide added capacity to meet increases in intercity travel demand in California in a manner sensitive to, and protective of, California's unique natural resources.

The need for an HSR System is directly related to the expected growth in population, and increases in intercity travel demand in California over the next 20 years and beyond. With the growth in travel demand, there will be an increase in travel delays arising from the growing congestion on California's highways and at airports. In addition, there will be negative effects on the economy, quality of life, and air quality in and around California's metropolitan areas from an increasingly congested transportation system that will become less reliable as travel demand increases. The intercity highway system, commercial airports, and conventional passenger rail serving the intercity travel market are currently operating at or near capacity, and will require large public investments for maintenance and expansion to meet existing demand and future growth. The proposed HSR System is designed to address some of the social, economic and environmental problems associated with transportation congestion in California.

The Burbank to Los Angeles Section, with a connection to the IOS through the Burbank station, meets this purpose and need by:

• Connecting the major metropolitan areas in Central and Northern California to downtown Los Angeles;

• Incorporating HSR into the intermodal transportation hubs at Burbank and Los Angeles Union Station, thereby providing interfaces with airports (Bob Hope Airport), mass transit (Metro, Metrolink, and Amtrak), and highways, resulting in local and regional transit and transportation hubs;

• Capturing a large base of riders in the densely populated Los Angeles Basin; and

• Providing station locations with existing and planned transit oriented development potential.

The scoping process will allow the public and agencies to provide input and comments on purpose and need as it relates to the Burbank to Los Angeles section.

Alternatives

The Burbank to Los Angeles Section EIR/EIS will consider a No Action Alternative and one or more HSR Alternatives.

No Action Alternative

The No Action Alternative (No Project or No Build) represents the conditions in the Burbank to Los Angeles Section as they exist in 2014, and as they would exist based on programmed and funded improvements to the intercity transportation system and other reasonably foreseeable projects through 2040, taking into account the following sources of information: The State Transportation Improvement Program, Regional Transportation Plans for all modes of travel, airport plans, intercity passenger rail plans, and city and county plans.

HSR Alternative

The Authority proposes to construct, operate and maintain an electric-powered steel-wheel-on-steel-rail HSR System, approximately 800 miles long, capable of operating speeds of 220 mph on dedicated, fully grade-separated tracks, with state-of-the-art safety, signaling, and automated train control systems.

The Palmdale to Los Angeles HSR Corridor that was selected by FRA and the Authority in the Statewide Program EIR/EIS follows Soledad Canyon from the City of Palmdale to the community of Sylmar in the City of Los Angeles and then along the Metro/Metrolink Railroad line to Los Angeles Union Station. The corridor is relatively wide in the area that includes both the State Route 14 and Union Pacific Railroad alignments between the Antelope Valley and Santa Clarita.

Alternatives analyses conducted subsequent to completion of the Statewide Program EIR/EIS have examined alignments within the selected corridor, including the San Fernando Valley and northeast and downtown Los Angeles. The May 2014 SAA concluded that Burbank Airport would provide the most benefits and fewest impacts of the station locations in the San Fernando Valley, because intermodal connectivity (rail, bus, air) is strongest and existing land uses (primarily industrial and commercial) would be most compatible with the development of transit oriented uses. The May 2014 SAA was available for public review and comment as part of the alternatives analysis process. Additional engineering studies will be continued as part of this EIR/EIS process and will examine potential new alignments and refine studied alignments in order to better meet purpose and need, respond to stakeholder comments and concerns, and reduce environmental impacts. All alignment alternatives would be grade separated from existing roadways.

Station location options were selected with the Statewide Program EIR/EIS based on travel time, train speed, cost, local access times, potential connections with other modes of transportation, ridership potential and the distribution of population and major destinations along the route, and local planning constraints and conditions. The identification of station sites and configuration will be further refined and evaluated in the Burbank to Los Angeles Section EIR/EIS to reflect the evolution of statewide planning for HSR, as outlined in the 2014 Business Plan, as well as public and agency comments and concerns. Potential sites for terminal storage and maintenance facilities will be evaluated in the Palmdale to Burbank Section EIR/EIS.

Probable Effects

The purpose of the EIR/EIS process is to explore, in a public setting, the effects of the proposed action on the physical, human, and natural environment. FRA and the Authority will continue the tiered evaluation of all significant environmental, social, and economic impacts of the construction and operation of the HSR System. Impact areas to be addressed include transportation impacts; safety and security; land use and zoning; land acquisition, displacements, and relocations; agricultural land impacts; cumulative and secondary impacts; cultural resource impacts, including impacts on historical and archaeological resources and parklands/recreation areas; neighborhood compatibility and environmental justice; and natural resource impacts including air quality, wetlands, water resources, noise, vibration, energy, wildlife and ecosystems, including endangered species. Measures to avoid, minimize, and mitigate adverse impacts will be identified and evaluated.

The Burbank to Los Angeles Section EIR/EIS will be prepared in accordance with FRA's Procedures for Considering Environmental Impacts (64 FR 28545, May 26, 1999) and will follow the Integration Process for the California High-Speed Train Program as set forth in the Memorandum of Understanding (Integration MOU) among FRA, the Authority, the U.S. Environmental Protection Agency and the USACE. Consistent with the Integration MOU, the Burbank to Los Angeles Section EIR/EIS will evaluate alignment alternatives, and station and maintenance facility location options. This analysis will occur in coordination with the analysis required under the Integration MOU necessary to make a determination of the Least Environmentally Damaging Practicable Alternative (LEDPA) by the USACE, as required by Section 404 of the Clean Water Act.

The Burbank to Los Angeles Section EIR/EIS will also address, as necessary, other applicable statutes, regulations, and executive orders, including (but not limited to) the Clean Air Act, Clean Water Act, Section 106 of the National Historic Preservation Act of 1966, Section 4(f) of the Department of Transportation Act, the Endangered Species Act, and Executive Order 12898 on Environmental Justice.

Implementation of the Burbank to Los Angeles Section is a Federal undertaking with the potential to affect historic properties. As such, it is subject to the requirements of Section 106 of the National Historic Preservation Act of 1966 (16 U.S.C. 470f). In accordance with regulations issued by the Advisory Council on Historic Preservation, 36 CFR part 800, FRA intends to coordinate compliance with Section 106 of this Act with the preparation of the Burbank to Los Angeles Section EIR/EIS, beginning with the identification of consulting parties in a manner consistent with the standards set out in 36 CFR 800.8. Pursuant to a Programmatic Agreement among FRA, the Advisory Council on Historic Preservation, the California State Historic Preservation Officer, and the Authority, phased review of effects on historic properties is being conducted as provided by 36 CFR 800.4(b)(2). Public comment is sought with respect to the effects of potential alternatives within the Burbank to Los Angeles Section on historic properties.

Scoping and Comments

FRA encourages broad participation in the EIS process during scoping and review of the resulting environmental documents. Comments and suggestions are invited from all interested agencies, Native American Tribes, and the public at large to ensure that the full range of issues related to the proposed action and all reasonable alternatives are addressed and that all significant issues are identified. In particular, FRA is interested in determining whether there are areas of environmental concern where there might be a potential for significant impacts identifiable at a project level. Comments are also sought regarding purpose and need as it relates to the Burbank to Los Angeles Section and the selection of alternatives, including alternatives addressed in the Preliminary Alternatives Analysis and the SAAs. Public agencies with jurisdiction are requested to advise FRA and Authority of the applicable permit and environmental review requirements of each agency, and the scope and content of the environmental information that is germane to the agency's statutory responsibilities in connection with the proposed project. Public agencies are requested to advise FRA if they anticipate taking a major action in connection with the proposed project and if they wish to cooperate in the preparation of the project-level Burbank to Los Angeles Section EIR/EIS.

Public scoping meetings have been scheduled as an important component of the scoping process for both the State and Federal environmental review. The scoping meetings described in this Notice will also be advertised locally and included in additional public notification. The scoping meetings will be held from 5:30 p.m. to 7:30 p.m. at the following locations:

• Santa Clarita: Tuesday, August 5, William S. Hart Regional Park, 24151 Newhall Avenue, Newhall, CA 91321

• Burbank: Wednesday, August 6, Buena Vista Branch Library, 300 N. Buena Vista Street, Burbank, CA 91505

• Palmdale: Thursday, August 7, Chimbole Cultural Center, 38350 Sierra Highway, Palmdale, CA, 93550

• Acton/Agua Dulce: Monday, August 11, Acton-Agua Dulce Library, 33792 Crown Valley Road, Acton, CA 93510

• Sylmar: Tuesday, August 12, Sylmar Public Library, 14561 Polk Street, Sylmar, CA 91342

• Lake View Terrace: Thursday, August 14, Lakeview Terrace Recreation Center, 11075 Foothill Boulevard, Lake View Terrace, CA 91342

• Downtown LA: Tuesday, August 19, Los Angeles Union Station Fred Harvey Room, 800 N. Alameda Street, Los Angeles, CA 90012

Issued in Washington, DC, on July 18, 2014.
Corey Hill,
Director, Office of Program Delivery.

[FR Doc. 2014-17384 Filed 7-23-14; 8:45 a.m.]

BILLING CODE 4910-06-P